DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, State Route (SR-) 91 Improvement Project between SR-57 and SR-55 from post mile (PM) 4.7 to PM R10.8 (from west of State College Boulevard to east of Lakeview Avenue), SR-57 from PM 15.5 to PM 16.2 (from just south of SR-91 to just north of SR-91), and SR-55 from PM 17.4 to PM R17.9 (from south of SR-91 to SR-91) in the cities of Anaheim, Fullerton, Orange, and Placentia, in the County of Orange, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 28, 2020. If the Federal law that authorizes judicial review of a claim provides a time period of less than 150 days for filing such claim, then that shorter time period still applies.

FOR FURTHER INFORMATION CONTACT: For Caltrans: Smita Deshpande, Chief, Generalists' Branch, California Department of Transportation District 12, Division of Environmental Analysis, 1750 East 4th Street, Santa Ana, California 92705, weekdays from 8:00 a.m. to 5:00 p.m., Telephone number (657) 328-6151, email: smita.deshpande@dot.ca.gov. For FHWA, contact David Tedrick at (916) 498-5024 or email david.tedrick@dot.gov.

SUPPLEMENTARY INFORMATION: Effective July 1, 2007, FHWA assigned, Caltrans assumed, environmental responsibilities for this project pursuant to 23 U.S.C. 327. Notice is hereby given that the Caltrans has taken final agency actions subject to 23 U.S.C. 139(l)(1) by issuing licenses, permits, and approvals for the following highway project in the State of California: The SR-91 Improvement Project between SR-57 and SR-55 (“project”) will improve traffic operations on SR-91 from Post Mile (PM) 4.7 to PM R10.8, SR-57 from PM 15.5 to PM 16.2, and on SR-55 from PM 17.4 to PM R17.9 in the cities of Anaheim, Fullerton, Orange, and Placentia in Orange County, California, a distance of approximately 6 miles. The proposed improvements would include the SR-91 freeway mainline widening, primarily in the eastbound direction, and modifications to various interchanges, connectors, ramps, and intersections. Construction of the proposed highway project is expected to begin in 2026 and is anticipated to be completed in 2030, a duration of approximately 3.5 years. The purpose of the proposed project within the corridor is to improve capacity and reduce congestion, as well as reduce weaving and merging between successive ramps at several interchanges. The actions by the Federal agencies, and the laws under which such actions were taken, are described in the Final Initial Study (IS)/Environmental Assessment (EA) for the project, approved on 6/22/2020, and in other documents in the FHWA project records. The Final Initial Study (IS) with Mitigated Negative Declaration/Environmental Assessment (EA) with Finding of No Significant Impact and other project records are available by contacting Caltrans at the addresses provided above. The Caltrans Final IS/EA can also be requested via email D12_SR91_Project@dot.ca.gov, or viewed at the address above.

This notice applies to all Federal agency decisions as of the issuance date of this notice and all laws under which such actions were taken, including but not limited to:

1. National Environmental Policy Act (NEPA) [42 U.S.C. 4321-4351]; Federal-Aid Highway Act [23 U.S.C. 109 and 23 U.S.C. 128].

2. Clean Air Act [42 U.S.C. 7401-7671(q)].

3. Section 4(f) of the U.S. Department of Transportation Act of 1966 [49 U.S.C. 303].

4. Endangered Species Act [16 U.S.C. 1531-1544 and Section 1536], Fish and Wildlife Coordination Act [16 U.S.C. 661-667(d)], Migratory Bird Treaty Act [16 U.S.C. 703-712].

5. Section 106 of the National Historic Preservation Act of 1966, as amended [16 U.S.C. 470(f) et seq.]; Archeological Resources Protection Act of 1977 [16 U.S.C. 470(aa)-11]; Archeological and Historic Preservation Act [16 U.S.C. 469 469(c)]; Native American Grave Protection and Repatriation Act (NAGPRA) [25 U.S.C. 3001-3013].

6. Clean Water Act 33 U.S.C. 1251-1387.

7. E.O. 11990 Protection of Wetlands; E.O. 11988 Floodplain Management; E.O. 12898, Federal Actions to Address Environmental Justice in Minority Populations and Low-Income Populations; E.O. 11593 Protection and Enhancement of Cultural Resources; E.O. 13112 Invasive Species. (Catalog of Federal Domestic Assistance Program Number 20.205, Highway Planning and Construction. The regulations implementing Executive Order 12372 regarding intergovernmental consultation on Federal programs and activities apply to this program.)

(Catalog of Federal Domestic Assistance Program Number 20.205, Highway Planning and Construction. The regulations implementing Executive Order 12372 regarding intergovernmental consultation on Federal programs and activities apply to this program.)

Authority: 23 U.S.C. 139(l)(1).

Rodney Whitfield,
Director, Financial Services, Federal Highway Administration, California Division.

[FR Doc. 2020-16561 Filed 7-30-20; 8:45 am]

BILLING CODE 4910-RY-P